DEPARTMENT OF COMMERCE

International Trade Administration

[C-489-819]

Steel Concrete Reinforcing Bar From the Republic of Türkiye: Notice of Court Decision Not in Harmony With the Results of Countervailing Duty Administrative Review; Notice of Amended Final Results

AGENCY: Enforcement and Compliance, International Trade Administration, Department of Commerce.

SUMMARY: On November 27, 2023, the U.S. Court of International Trade (CIT) issued its final judgment in Kaptan Demir Celik Endustrisi ve Ticaret A.S., et al. v. United States, Court No. 21-00565, sustaining the U.S. Department of Commerce (Commerce)'s remand results pertaining to the 2018 administrative review of the countervailing duty (CVD) order on steel concrete reinforcing bar (rebar) from the Republic of Türkiye (Türkiye). On November 17, 2025, the U.S. Court of Appeals for the Federal Circuit (Federal Circuit) affirmed the underlying decision issued by the CIT in Kaptan Demir Celik Endustrisi ve Ticaret A.S., et. al. v. U.S., Court No. 24-1431. Commerce is notifying the public that the CIT's final judgment is not in harmony with Commerce's final results of the administrative review, and that Commerce is amending the final results with respect to the subsidy rates assigned to Kaptan Demir Celik Endustrisi ve Ticaret A.S. (Kaptan), Colakoglu Metalurji A.S., and Colakoglu Dis Ticaret A.S.

DATES: Applicable December 7, 2023.

FOR FURTHER INFORMATION CONTACT: Ted Pearson, AD/CVD Operations, Office I, Enforcement and Compliance, International Trade Administration, U.S. Department of Commerce, 1401 Constitution Avenue NW, Washington, DC 20230; telephone: (202) 482-2631.

SUPPLEMENTARY INFORMATION:

Background

On September 27, 2021, Commerce published its Final Results in the 2018 CVD administrative review of rebar from Türkiye.¹ Commerce determined in the Final Results that subsidies received by Kaptan's affiliate, Nur Gemicilik ve Tic. A.S. (Nur), were attributable to Kaptan.² Kaptan appealed Commerce's Final Results. On April 26, 2023, the CIT remanded the Final Results to Commerce to further explain and review the finding that Nur was a cross-owned input supplier of products primarily dedicated to the production of downstream products.³

¹ See Steel Concrete Reinforcing Bar from the Republic of Turkey: Final Results of Countervailing Duty Administrative Review and Rescission, in Part; 2018, 86 FR 53279 (September 27, 2021) (Final Results), and accompanying Issues and Decision Memorandum (IDM).

² See Final Results IDM at Comment 5.

³ See Kaptan Demir Celik Endustrisi ve Ticaret A.S., et al. v. United States, 633 F. Supp. 3d 1276 (CIT 2023).

In its Final Remand Redetermination, issued in July 2023, Commerce found that Nur does not constitute a cross-owned input supplier of products (i.e., steel scrap) deemed to be primarily dedicated to downstream steel production during the period of review (POR).⁴ Commerce recalculated Kaptan's subsidy rate without Nur, and, likewise, revised the subsidy rates for the companies not selected for individual review (i.e., Colakoglu Dis Ticaret A.S. and Colakoglu Metalurji A.S.). Specifically, for the period January 1, 2018, through December 31, 2018, the rates for all three companies and their cross-owned companies are now de minimis (i.e., 0.18 percent ad valorem).⁵ The CIT sustained Commerce's Final Remand Redetermination.⁶ The Federal Circuit affirmed the CIT's underlying opinion sustaining Commerce's Final Remand Redetermination.⁷

⁴ See Final Results of Redetermination Pursuant to Court Remand, Kaptan Demir Celik Endustrisi Ve Ticaret A.S. v. United States, Consol. Court No. 21-00565, Slip Op. 23-62 (CIT April 26, 2023), dated July 24, 2023 (Final Remand Redetermination).

⁵ Id.

⁶ See Kaptan Demir Celik Endustrisi ve Ticaret A.S., et al. v. United States, 666 F.Supp. 3d 13341 (CIT November 27, 2023).

⁷ See Kaptan Demir Celik Endustrisi ve Ticaret A.S., et al. v. U.S., Court No. 2024-1431 (Fed.Cir. November 17, 2025).

Timken Notice

In its decision in Timken,⁸ as clarified by Diamond Sawblades,⁹ the Federal Circuit held that, pursuant to sections 516A(c) and (e) of the Tariff Act of 1930, as amended (the Act), Commerce must publish a notice of court decision that is not “in harmony” with a Commerce determination and must suspend liquidation of entries pending a “conclusive” court decision. The CIT's November 27, 2023, judgment constitutes a final decision of the CIT that is not in harmony with Commerce's Final Results. This judgment has been affirmed by the Federal Circuit. Thus, this notice is published in fulfillment of the publication requirements of Timken.

⁸ See Timken Co. v. United States, 893 F.2d 337 (Fed. Cir. 1990) (Timken).

⁹ See Diamond Sawblades Manufacturers Coalition v. United States, 626 F.3d 1374 (Fed. Cir. 2010) (Diamond Sawblades).

Amended Final Results

Because there is a final court judgment, Commerce is amending its Final Results with respect to Kaptan and the non-examined companies (Colakoglu Dis Ticaret A.S. and Colakoglu Metalurji A.S.) as follows:

¹⁰ Commerce finds the following companies to be cross-owned with Kaptan: Kaptan Metal Dis Ticaret ve Nakliyat A.S.; Martas Marmara Ereglisi Liman Tesisleri A.S.; Aset Madencilik A.S.; Kaptan Is Makinalari Hurda Alim Satim Ltd. Sti.; and Efesan Demir San. Ve Tic. A.S.

Company | Subsidy rate (percent ad valorem)
Kaptan Demir Celik Endustrisi ve Ticaret A.S.¹⁰ | 0.18 (de minimis).
Colakoglu Dis Ticaret A.S | 0.18 (de minimis).
Colakoglu Metalurji A.S | 0.18 (de minimis).

Amended Cash Deposit Rates

Because Kaptan, Colakoglu Dis Ticaret A.S., and Colakoglu Metalurji A.S. have superseding cash deposit rates, i.e., there have been final results published in a subsequent administrative review,¹¹ we will not issue revised cash deposit instructions to U.S. Customs and Border Protection (CBP). This notice will not affect the current cash deposit rate.

¹¹ See, e.g., Steel Concrete Reinforcing Bar from the Republic of Turkey: Final Results of Countervailing Duty Administrative Review and Rescission, in Part; 2019, 87 FR 21640 (April 12, 2022). Commerce determined in the 2019 administrative review that Colakoglu Dis Ticaret A.S. and Colakoglu Metalurji A.S. were cross-owned.

Liquidation of Suspended Entries

At this time, Commerce remains enjoined by CIT order from liquidating entries that: were produced and/or exported by Kaptan and the two other companies (Colakoglu Dis Ticaret A.S. and Colakoglu Metalurji A.S.), and were entered, or withdrawn from warehouse, for consumption during the period January 1, 2018, through December 31, 2018. These entries will remain enjoined pursuant to the terms of the injunction during the pendency of any appeals process.

In the event the Federal Circuit's ruling is not appealed, or, if appealed, upheld by a final and conclusive court decision, Commerce intends to instruct CBP to assess countervailing duties on unliquidated entries of subject merchandise produced and/or exported by Kaptan, Colakoglu Dis Ticaret A.S., and Colakoglu Metalurji A.S. in accordance with 19 CFR 351.212(b). We will instruct CBP to assess countervailing duties on all appropriate entries covered by this review when the ad valorem rate is not zero or de minimis. Where an ad valorem subsidy rate is zero or de minimis,¹² we will instruct CBP to liquidate the appropriate entries without regard to countervailing duties.

¹² See 19 CFR 351.106(c)(2).

Notification to Interested Parties

This notice is issued and published in accordance with sections 516A(e)(1), 751(b), and 777(i)(1) of the Act.

Dated: November 21, 2025.
Christopher Abbott,
Deputy Assistant Secretary for Policy and Negotiations, performing the non-exclusive functions and duties of the Assistant Secretary for Enforcement and Compliance.

[FR Doc. 2025-21290 Filed 11-25-25; 8:45 am]

BILLING CODE 3510-DS-P